DEPARTMENT OF ENERGY

Federal Energy Regulatory Commission

Notice of Filings

October 18, 2007.

Take notice that the Commission received the following exempt wholesale generator filings:

Docket Numbers: EG08-8-000.

Applicants: Plum Point Energy Associates, L.L.C.

Description: Notice of Self Certification of Exempt Wholesale Generator Status of Plum Point Energy Associates, L.L.C.

Filed Date: 10/17/2007.

Accession Number: 20071017-5029.

Comment Date: 5 p.m. Eastern Time on Wednesday, November 07, 2007.

Take notice that the Commission received the following electric rate filings:

Docket Numbers: ER03-534-003.

Applicants: Ingenco Wholesale Power, L.L.C.

Description: Notice of Change in Status of Ingenco Wholesale Power, L.L.C.

Filed Date: 10/17/2007.

Accession Number: 20071017-5014.

Comment Date: 5 p.m. Eastern Time on Wednesday, November 07, 2007.

Docket Numbers: ER07-1318-001.

Applicants: Wellsboro Electric Company.

Description: Wellsboro Electric Co submits a Supplement to the Petition for Acceptance of Initial Tariff, Waivers and Blanket Authority.

Filed Date: 10/17/2007.

Accession Number: 20071018-0077.

Comment Date: 5 p.m. Eastern Time on Wednesday, November 07, 2007.

Docket Numbers: ER08-38-001.

Applicants: Northern Renewable Energy (USA) Ltd.

Description: Northern Renewable Energy (USA) Ltd submits Appendix A to its 10/10/07 submittal of an application.

Filed Date: 10/16/2007.

Accession Number: 20071018-0084.

Comment Date: 5 p.m. Eastern Time on Tuesday, October 23, 2007.

Docket Numbers: ER08-40-001.

Applicants: PJM Interconnection, L.L.C.

Description: PJM Interconnection LLC requests that the language in footnote 2 of the 10/11/07 transmittal letter be replaced.

Filed Date: 10/16/2007.

Accession Number: 20071018-0098.

Comment Date: 5 p.m. Eastern Time on Tuesday, November 06, 2007.

Docket Numbers: ER08-62-000.

Applicants: Peetz Table Wind Energy, LLC.

Description: Peetz Table Wind Energy, LLC submits a Jurisdictional Agreement with Logan Wind Energy, LLC.

Filed Date: 10/16/2007.

Accession Number: 20071018-0086.

Comment Date: 5 p.m. Eastern Time on Tuesday, November 06, 2007.

Docket Numbers: ER08-63-000.

Applicants: Lincoln Generating Facility, LLC.

Description: Lincoln Generating Facility, LLC submits a tariff pursuant to which it will provide up to 320 MW of black start capacity in the Commonwealth Edison Co.

Filed Date: 10/16/2007.

Accession Number: 20071018-0087.

Comment Date: 5 p.m. Eastern Time on Tuesday, November 06, 2007.

Docket Numbers: ER08-64-000.

Applicants: California Independent System Operator C.

Description: California Independent System Operator submits proposed amendment to the currently-effective ISO Tariff.

Filed Date: 10/16/2007.

Accession Number: 20071018-0085.

Comment Date: 5 p.m. Eastern Time on Tuesday, November 06, 2007.

Take notice that the Commission received the following electric securities filings:

Docket Numbers: ES07-26-004.

Applicants: Entergy Gulf States, Inc.

Description: Entergy Gulf States Inc et al. submits additional information with respect to their request for relief under FPA.

Filed Date: 10/16/2007.

Accession Number: 20071018-0088.

Comment Date: 5 p.m. Eastern Time on Tuesday, October 23, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC.

There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis,
Acting Deputy Secretary.

[FR Doc. E7-20903 Filed 10-23-07; 8:45 am]

BILLING CODE 6717-01-P